DEPARTMENT OF LABOR

Office of the Secretary

Agency Information Collection Activities: Proposed Collection Extension; Comment Request; Equal Access to Justice Act

ACTION: Notice.

SUMMARY: The Department of Labor is soliciting comments concerning the proposed extension of the information collection request (ICR) for applicants to obtain awards in administrative proceedings subject to the Equal Access to Justice Act.

DATES: Written comments must be submitted by May 20, 2011.

ADDRESSES: Comments may to be submitted by mail to the Department of Labor/Office of the Solicitor, Attn: Raymond E. Mitten, Jr., 200 Constitution Avenue, NW., Room N-2428, Washington, DC 20210. Comments also may be sent by e-mail to DOL_PRA_Public@dol.gov. Written comments limited to 10 pages or fewer may be transmitted by facsimile to (202) 693-5538.

FOR FURTHER INFORMATION CONTACT: Raymond E. Mitten, Jr., Counsel for Administrative Law, Division of Management and Administrative Legal Services, Office of the Solicitor, 200 Constitution Ave., NW., Washington, DC 20210, telephone (202) 693-5523. Copies of the referenced information collection request are available in room N-1301, U.S. Department of Labor, 200 Constitution Avenue, NW., Washington, DC 20210. A copy of the ICR, with applicable supporting documentation, may be obtained by calling the Department of Labor. To obtain documentation, contact Michel Smyth at (202) 693-4129 or e-mail: Smyth.Michel@dol.gov.

SUPPLEMENTARY INFORMATION: I. Background: The Equal Access to Justice Act provides for the award of fees and expenses to certain parties involved in administrative proceedings with the United States. The statute requires, at 5 U.S.C. 504(a)(2), that a party seeking an award of fees and other expenses in a covered administrative proceeding must submit to the agency “an application which shows that the party is the prevailing party and is eligible to receive an award” under the Act. The Department of Labor's regulations implementing the Equal Access to Justice Act contain a subpart which specifies the contents of applications for an award, 29 CFR part 16, subpart B.

II. Desired Focus of Comments: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3505(c)(2)(A)]. The program helps to ensure that requested data can be provided in the desired format, reporting burden (time and financial resources) is minimized, collection instruments are clearly understood, and the impact of the collection requirements on respondents can be properly assessed. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Comments submitted in response to this notice will be summarized and may be included in the request for OMB approval of the final information collection request. The comments will become a matter of public record.

III. Current Action: This notice requests an extension of the current Office of Management and Budget (OMB) approval of the paperwork requirements for the contents of applications for an award under the Equal Access to Justice Act.

Type of Review: Extension of a currently approved collection of information.

Agency: Department of Labor.

Title: Equal Access to Justice Act.

OMB Control Number: 1225-0013.

Affected Public: Individuals or household; Private section—businesses or other for-profits, not-for-profit institutions; State, Local, and Tribal Governments.

Number of Respondents: 10.

Frequency: On occasion.

Total Responses: 10.

Average Time per Response: 5 hours.

Estimated Total Burden Hours: 50 hours.

Total Annualized Capital and Startup Costs: $0.

Total Annualized Operation and Maintenance Costs: $0.

Dated: March 15, 2011.
Michel Smyth,
Departmental Clearance Office.

[FR Doc. 2011-6543 Filed 3-18-11; 8:45 am]

BILLING CODE 4510-23-P